DEPARTMENT OF TRANSPORTATION

Surface Transportation Board

[STB Finance Docket No. 34457]

Utah Central Railway Company—Acquisition and Operation Exemption—Boyer BDO, L.C. and City of Ogden, UT

Utah Central Railway Company (UCRC), a Class III rail carrier, has filed a verified notice of exemption under 49 CFR 1150.41 et seq. to acquire from Boyer BDO, L.C. and the City of Ogden, UT, the right to operate over approximately 15 miles of trackage in Ogden. The tracks are located within an industrial area known as the Business Depot Ogden (BDO) and are known as the BDO Industrial Tracks. The tracks extend west from Union Pacific Railroad Company's (UP) mainline tracks at milepost UN 04.7.¹

¹ UCRC currently operates over certain portions of UP's rail line in Ogden. See Utah Central Railway Company—Lease and Operation Exemption—Union Pacific Railroad Company, STB Finance Docket No. 34051 (STB served Aug. 22, 2001).

UCRC certifies that its projected annual revenues as a result of this transaction will not exceed those that would qualify it as a Class III rail carrier, and will not result in the creation of a Class II or Class I rail carrier.

Consummation of the transaction was scheduled to take place on January 20, 2004, the effective date of the exemption (7 days after the exemption was filed).

If the verified notice contains false or misleading information, the exemption is void ab initio. Petitions to revoke the exemption under 49 U.S.C. 10502(d) may be filed at any time. The filing of a petition to revoke will not automatically stay the transaction.

An original and 10 copies of all pleadings, referring to STB Finance Docket No. 34457, must be filed with the Surface Transportation Board, 1925 K Street, NW., Washington, DC 20423-0001. In addition, a copy of each pleading must be served on Dennis C. Farley, 299 South Main, Suite 2200, Wells Fargo Center, Salt Lake City, UT 84111.

Board decisions and notices are available on our Web site at http://www.stb.dot.gov.

Decided: January 27, 2004.
By the Board, David M. Konschnik, Director, Office of Proceedings.
Vernon A. Williams,
Secretary.

[FR Doc. 04-2129 Filed 2-5-04; 8:45 am]

BILLING CODE 4915-00-P